DEPARTMENT OF LABOR

Employment and Training Administration

[TA-W-40,717 and TA-W-40,717A]

DyStar LP, Coventry, RI, and DyStar LP, Corporate Office, Charlotte, NC; Amended Certification Regarding Eligibility To Apply for Worker Adjustment Assistance

In accordance with Section 223 of the Trade Act of 1974 (19 U.S.C. 2273) the Department of Labor issued a Certification of Eligibility to Apply for Worker Adjustment Assistance on May 6, 2002, applicable to workers of DyStar LP, located in Coventry, Rhode Island. The notice was published in the Federal Register on May 17, 2002 (67 FR 35141).

At the request of a petitioner, the Department reviewed the certification for workers of the subject firm. The workers of DyStar LP produce textile reactive dyes. New information provided by a company official show that layoffs have occurred at the subject firm's headquarters in Charlotte, North Carolina. Workers at the headquarters provide administrative support services for the production of textile reactive dyes at the company's production facility in Coventry, Rhode Island.

It is the Department's intent to include all workers of DyStar LP affected by increased imports. Therefore, the Department is amending the certification to include workers of DyStar LP, Corporate Office in Charlotte, North Carolina.

The amended notice applicable to TA-W-40,717 is hereby issued as follows:

“All workers of DyStar LP, Coventry, Rhode Island (TA-W-40,717), and DyStar LP, Corporate Office, Charlotte, North Carolina (TA-W-40,717A), who became totally or partially separated from employment on or after January 9, 2001, through May 6, 2004, are eligible to apply for adjustment assistance under section 223 of the Trade Act of 1974.”

Signed at Washington, DC, this 12th day of December, 2003.
Linda G. Poole,
Certifying Officer, Division of Trade Adjustment Assistance.

[FR Doc. 04-1518 Filed 1-23-04; 8:45 am]

BILLING CODE 4510-30-P